DEPARTMENT OF VETERANS AFFAIRS

Homeless Providers Grant and Per Diem (GPD) Program Special Need Grant

AGENCY: Department of Veterans Affairs.

ACTION: Notice of Funding Opportunity (NOFO).

SUMMARY: The Department of Veterans Affairs (VA) announces the opportunity of funds in the amount of approximately $5 million per year for up to 2 years under the Grant and Per Diem (GPD) special need grant program. The special need grants enable the GPD program within VA's Homeless Programs Office to offer financial assistance through a 2-year renewal grant to the 16 currently operational GPD special need grantees to defray the cost of facilitating transitional housing and supportive services for eligible Veterans. Funding offered under this Notice of Funding Opportunity (NOFO) responds to the need to reach Veterans who are homeless or at risk of becoming homeless and who are in one of the special need populations (i.e., chronically mentally ill, frail elderly, individuals who care for minor dependents, terminally ill, or women). This renewal funding will provide assistance to offset operational costs including costs that would not otherwise be incurred, but for the fact that the recipient is providing supportive housing beds in private rooms with private bathrooms for a homeless Veteran population with special needs. This Notice contains information concerning the GPD program, the application process, and amount of funding available. Awards made for program services grants will fund operations beginning on or around October 1, 2024.

DATES: Applications for grants must be received by 4:00 p.m. Eastern Time on April 15, 2024. In the interest of fairness to all competing applicants, this deadline is firm as to date and hour. VA will treat as ineligible for consideration any application that is received after the deadline. Applicants should take this practice into account and submit their materials early to avoid risk of loss of eligibility, unanticipated delays, computer service outages, or other submission-related problems.

ADDRESSES: Copies of the application materials can be downloaded from the program website at https://www.va.gov/homeless/gpd.asp. Questions should be referred to GPDGrants@va.gov. For detailed program information and requirements, see 38 CFR part 61.

FOR FURTHER INFORMATION CONTACT: Ms. Chelsea Watson, Director VA Homeless Providers GPD Program Office, 813-816-7155 extension 100109 (this is not a toll-free telephone number), or GPDGrants@va.gov.

Application Submission: Applicants must submit applications electronically following instructions found at https://www.va.gov/homeless/gpd.asp. Applications may not be emailed, mailed, or sent by facsimile (fax). Applications must be received by the Program Office no later than 4:00 p.m. Eastern Time on the application deadline date. Applications must arrive as a complete package.

Materials arriving separately will not be included in the application package for consideration and may result in the application being rejected or not funded.

In the event of certain errors, such as duplicate applications or multiple applications per Employer Identification Number, per VA medical facility catchment area, VA reserves the right to select which application to consider based on the submission dates and times or based on other factors.

Applicants are advised to refer to this NOFO when completing the online application. NOFO content provides supplementary guidance for completing the online application.

Technical Assistance: Information on obtaining technical assistance for preparing a grant application is available on the program website at https://www.va.gov/homeless/gpd.asp.

SUPPLEMENTARY INFORMATION:

Funding Opportunity Title: GPD Special Need Grant.

Announcement Type: Renewal.

Funding Opportunity Number: VA-GPD-SN-FY2025.

Assistance Instrument: Grant.

Assistance Listing: 64.024, VA Homeless Providers Grant and Per Diem Program.

I. Funding Opportunity Description

Program Purpose and Background

Purpose: Ending and preventing homelessness among Veterans is a priority for VA. VA's Homeless Programs Office constitutes the Nation's largest integrated network of homelessness, housing, prevention, and rehabilitation services for Veterans. These programs are designed to help Veterans live as self-sufficiently and independently as possible. The foundation for these programs is based on Housing First principles combined with supportive services to ensure Veterans are able to end the cycle of homelessness.

Since 1994, the GPD program has provided Veterans who are experiencing homelessness with community-based transitional housing, supportive services such as case management, and more. These services assist Veterans in attaining or retaining permanent residence. Several types of grants are offered under the umbrella of the GPD program. The grants are designed to meet Veterans at various stages as they move to housing stability. The community organizations who receive the grants offer focused housing stability support through a variety of service models. The GPD program plays a vital role in the continuum of homeless services.

Background: Ending Veteran homelessness requires multifaceted approaches. This NOFO represents one such approach. This NOFO responds to the need in communities to reach Veterans who are homeless or at risk of becoming homeless and who are in one of the special need populations (i.e., chronically mentally ill, frail elderly, individuals who care for minor dependents, terminally ill, or women). The renewal funding will provide assistance to offset operational costs including costs that would not otherwise be incurred, but for the fact that the recipient is providing supportive housing beds in private rooms with private bathrooms for a homeless Veteran population with special needs. Grants funded from this NOFO will increase housing stability for Veterans. VA is committed to supporting community-based organizations as they transform projects to meet the challenge of ending homelessness among Veterans.

Program Description

Goals and Objective: The goals of projects under assistance listing 64.024, VA Homeless Providers Grant and Per Diem program, are to provide transitional housing and supportive services to Veterans experiencing homelessness as they move toward and retain permanent housing. To achieve these goals, the objective of this NOFO is to provide renewal funding for per diem payments to defray the cost of facilitating housing stabilization within private rooms with private bathrooms for special need populations of Veterans. As applicable, each grantee's performance will be indicated by how they meet targets relevant to the proposed special need population such as permanent housing, negative exits, or employment. Specific targets are identified in the Required Minimum Performance Metrics/Targets section of the NOFO.

Applicants agree to meet the applicable requirements of 38 CFR part 61 as a part of the effort to end homelessness among the Nation's Veterans. Applicants agree to meet the applicable requirements of 2 CFR part 200 (Uniform Administrative Requirements, Cost Principles, and Audit Requirements for Federal Awards) as part of the Governmentwide initiative to administer Federal financial assistance systematically and uniformly. In addition, all applicants must offer a low barrier, harm reduction approach that applies Housing First principles to engaging unsheltered Veterans in services and must have policies and procedures for maintaining low barriers and high-quality engagement through the provision of service.

Required Minimum Performance Metrics/Targets

Applicants for renewal funding must address the needs of the same homeless Veteran special need population identified in the previous special need application and approved in the grant agreement effective October 1, 2021, or in a subsequently approved change of scope. Changes to the special need population are not allowed. Applicants must demonstrate compliance with the special need population requirements in their renewal application and during the grant award period if selected for funding. Refer to 38 CFR 61.41 for additional information on special need populations.

For each of the special need populations below that have Required Minimum Performance Metrics/Targets, the targets are set for the initial funding period of this renewal award starting October 1, 2024. VA may, at its discretion, update these targets at any time, for example during an option year, as applicable. Any new targets will be stated in writing by VA.

• Chronically mentally ill:

○ Discharge to permanent housing target is 60%.

○ Employment of individuals at discharge target is 55%.

○ Negative exits target is less than 20%.

• Frail elderly:

○ Discharge to permanent housing target is 65%.

○ Negative exits target is less than 20%.

• Individuals who care for minor dependents:

○ Discharge to permanent housing target is 70%.

○ Employment of individuals at discharge target is 55%.

○ Negative exits target is less than 20%.

• Terminally ill:

○ Not applicable.

• Women:

○ Discharge to permanent housing target is 70%.

○ Employment of individuals at discharge target is 55%.

○ Negative exits target is less than 20%.

Note that negative exits are defined as those exits from a GPD program for a violation of program rules, failure to comply with program requirements, or leaving the program without consulting staff.

Housing Specifications

The special need beds supported under this grant must be in private rooms with private bathrooms including the following characteristics:

• The minimum square footage for the private bedroom and private bathroom combined is 120 square feet. The bedroom and bathroom do not need to be attached in which case the walkway would not usually count toward the square footage calculation.

• The bathroom must include shower and/or tub, sink, and toilet.

• Neither the bedroom nor the bathroom facilities may be shared (e.g., no shared sink area outside the toilet room).

• Rooms with partial walls are not acceptable. Walls must go floor-to-ceiling. Rooms must have a door and not involve unauthorized passage through another dwelling unit.

Definitions

The regulations for the GPD program, found in 38 CFR part 61, as well as the uniform guidance for grants (2 CFR part 200) contain all detailed definitions, authorities, and requirements pertaining to this program.

Program Authority

Funding applied for under this Notice is authorized by 38 U.S.C. 2011, 2012, 2061. VA established and implemented this statutory authority for the GPD program in 38 CFR part 61. Funds made available under this Notice may be subject to other applicable laws and regulations including those in title 2, Code of Federal Regulations.

Guidance for the Use of Funds

• Funds requested for renewal grant activities must meet the same criteria identified in the original Notice (published March 4, 2021), and available on the GPD website: https://www.va.gov/homeless/gpd.asp.

• Funds requested for renewal grant activities must be the same as what was approved under the previously awarded grant agreement, effective October 1, 2021, or in a subsequently approved change of scope.

• VA reserves the right to fund only those projects or portions of projects based on the percentage of use for the VA grant and based on actual need as determined by VA. Those activities deemed outside the scope of this NOFO will not be funded.

II. Award Information

Award Amount

Approximately $5 million per year for 2 years is available for grants under this Notice. The maximum allowable grant size is determined by the number of beds previously awarded and by each applicant's unique per diem rate. Applicants for renewal funding may request up to the number of beds approved under their currently active GPD special need grant (start date October 1, 2021). Applicants may request fewer beds but may not request more.

Award Period

Grants awarded are expected to be for 2 years starting on October 1, 2024. Continuation funding is not guaranteed. VA reserves the right in any year to make adjustments (e.g., to funding levels, bed numbers, services, locations, performance targets, dates) as needed within the intent of the Notice based on a variety of factors including availability of funding and grantee performance.

III. Eligibility Information

Eligible Applicants

To be eligible, an applicant must be one of the 16 currently operational GPD special need grantees who was awarded a grant based on the Notice published in www.grants.gov on March 4, 2021, with a project start date of October 1, 2021. A list of active GPD special need grant recipients is available on the GPD website: https://www.va.gov/homeless/gpd.asp.

Eligible entities must have an active registration in the System for Award Management (SAM) and must maintain their active status throughout the application period. VA may not make a Federal award to an applicant if the applicant has not complied with all applicable Unique Entity Identifier (UEI) and SAM requirements. Applicants may refer to 2 CFR parts 200, 25, and www.SAM.gov for more information.

If an applicant has not fully complied with the SAM and UEI requirements by the time VA is ready to make an award, VA may determine that the applicant is not qualified to receive a Federal award and may use that determination as a basis for making an award to another applicant.

If awarded a grant, applicants must maintain an active SAM account for the duration of the grant period as a continuing condition of eligibility.

GPD grants are “Federal financial assistance” as defined in 2 CFR 25.406 and 200.1. Therefore, applicants must answer “yes” in www.SAM.gov saying they “wish to apply for a Federal assistance project or program” under the Financial Assistance Representation and Certification section. Then, applicants must certify to the representations and certifications in SAM.

Please note that all elements of 2 CFR part 200 apply to any organization that carries out a Federal award as a recipient or subrecipient, including for-profit organizations. This includes the monitoring and the examination of their records.

IV. Cost Sharing

Cost sharing is not required for this grant program.

V. Application and Scoring Information

Content and Form of Application

Applications submitted in response to this NOFO must be submitted through the online electronic grants management system by following the instructions at https://www.va.gov/homeless/gpd.asp. See also the Application Submission section of this Notice.

The numbered questions below make up the special need renewal application that all applicants must complete. Applicants must include all required documents in their application submission. Submission of an incorrect, incomplete, inconsistent, unclear, or incorrectly formatted application package may result in the application being rejected.

VA may make a reasonable effort to confirm or clarify information in the application. VA reserves the right to consider ineligible or to not select any application with inconsistent information or information that cannot be readily confirmed or that leads to an unclear understanding of the proposed project.

This Notice cannot predict all potential circumstances. Applicants are expected to propose plans within the requirements and guidance of the NOFO. When a specific situation is not explicitly addressed in the NOFO, applicants must use their judgment to propose plans that meet the intent of the NOFO and may explain how their choices align with the intent. All applications will be evaluated against the requirements and guidance in the NOFO.

Organization Profile (Eligibility)

1. Unique Entity Identifier.

2. Employer Identification Number.

3. Organization Name.

4. Organization Address (including city, state, postal code, and congressional district).

5. Indirect Cost Rate (percentage) and upload a copy of your agency's Federally Negotiated Indirect Cost Rate Agreement (NICRA) that supports this rate or upload a copy of your agency's certification of de minimis indirect cost rate. Note that applicants not requesting indirect costs as described in 2 CFR 200.414 are not required to upload anything here.

6. System for Award Management expiration date. Refer to the Eligible Applicants section of the NOFO and 2 CFR part 25 for more details.

Overview

7. Station number of the VA medical facility whose catchment area includes the proposed area to be served in this application (select one).

8. Veterans Integrated Service Network (select one).

9. Continuum of Care (CoC) (select all that apply).

Application

10. Special need population proposed (must be the same as previously approved for the grant period starting on October 1, 2021. See also related sections of this Notice: Required Minimum Performance Metrics/Targets section and Guidance for the Use of Funds section).

11. Total number of Veteran beds for which your agency is requesting per diem in this application and corresponding budget amounts requested (must be the same or less than previously approved for the grant period starting on October 1, 2021. See also related sections of this Notice: Guidance for the Use of Funds section and Award Amount section).

12. Site address(es): (Note that addresses are expected to be the same as previously approved for the grant period starting on October 1, 2021. If requesting multiple sites within a single application, all sites must fall within the same VA medical facility catchment area.)

a. Complete address, city, state, ZIP code + four-digit extension, county, and congressional district.

b. The total number of all beds and the number of GPD funded beds, per site address.

c. Identify the various demographics that will be served per site address (i.e., men/transgender/non-binary/other, women/transgender/non-binary/other, minor dependents, families, registered sex-offenders, justice involved Veterans, other).

d. Per location, a description of how the facility's participant living space will be configured. Include the square footage of the room, confirmation that each special need bed is in a private room with a private bath, and other details about the private and shared spaces in the facility for these Veterans.

Detailed Application Design

This is the portion of the application that describes the proposed project. Proposed projects must meet the same criteria identified in the original Notice (published March 4, 2021, and available on the GPD website: https://www.va.gov/homeless/gpd.asp). For example, starting on page 12 of the original notice is the Detailed Application Design section which includes questions for the scored criteria (i.e., Outreach, Project Plan, Ability, Need, and Coordination). Proposed projects are expected to continue the same application design that was approved for the previous grant period starting on October 1, 2021, or in a subsequently approved change of scope, with minimal if any changes.

VA reviewers will score the application based on how the detailed application design addresses the areas of need, outreach, project plan, ability, and coordination in relation to the selected special need population. These sections are in compliance with 38 CFR part 61.

Need

13. In approximately 250 words or less, applicants must state that the responses to the 2 Need questions from their previous application submitted in 2021 remain the same or must provide an updated response. See original Notice page 15, #27-28.

Outreach

14. In approximately 250 words or less, applicants must state that the response to the 1 Outreach question from their previous application submitted in 2021 remains the same or must provide an updated response. See original Notice page 13, #18.

Project Plan

15. In approximately 250 words or less, applicants must state that the responses to the 5 Project Plan questions from their previous application submitted in 2021 remain the same or must provide an updated response. See original Notice pages 13-14, #19-23.

16. Complete the table listing all the supportive services that will be provided to Veterans in the project (see Example 1). Applicants are expected to continue the same services that were approved for the previous grant period starting on October 1, 2021, or approved in a subsequent change of scope, with minimal changes, if any. Successful applicants will be allowed to exceed the minimum standards during the grant period without need for written prior approval from the GPD National Program Office, but they will not be allowed to reduce the standards.

Example 1.
Description of service | Minimum frequency | Total hours/month service will be offered for all GPD participants | Mode of engagement | Special need population for which service is available | Job title and minimum credentials required | Service provider
Case Management | Weekly | 320 hours (2 full-time equivalents (FTE), 40 hours/week) | In person | Chronically mentally ill | Case Manager; Licensed Clinical Social Worker or Master of Social Work | Agency staff.
Legal Services | Monthly | 5 hours | Virtual through video | Chronically mentally ill | Paralegal, Bachelor's | Contractors.
Recreational Therapy | Biweekly | 10 hours | Hybrid in person and video | Chronically mentally ill | Recreation Coordinator, no degree required, lived experience preferred | Community volunteers.

Ability

17. In approximately 500 words or less, discuss your past performance under the previously awarded special need grant (start date October 1, 2021). At minimum applicants must discuss the performance measures (e.g., exits to permanent housing, employment at exit, negative exits), length of stay in the GPD program by Veterans, occupancy rates of the GPD awarded beds, and use of private rooms with private bathrooms.

18. Complete the staffing plan table section of the application for this project (see Example 2). Applicants are expected to continue the same staffing plan that was approved for the previous grant period starting on October 1, 2021, or in a subsequently approved change of scope, with minimal if any changes. New or updated position descriptions for up to four key positions may be attached. Do not attach previously submitted position descriptions. Do not attach resumes. Successful applicants will be allowed to exceed the minimum standards during the grant period without the need for written prior approval from the GPD National Program Office, but they will not be allowed to reduce the standards.

Example 2.
Job title (do not name specific names) (agency, contractors, sub-contractors) | Brief (1-2 sentences) description of responsibilities | Minimum required educational level | Hours per week allocated to the GPD project (40 hours equals full-time) | Number of FTEs | Amount of annual salary allocated to the GPD project per year | Amount of salary, per job title, for the FTE position(s) per year
Case manager | Responsible for working with the Veteran to develop and monitor an individual service plan and to adjust the plan as needed. Coordinates support with other community agencies. | Bachelor's degree | 60 hours | 1.5 | $90,000 | $60,000

19. In approximately 250 words or less, applicants must state that the responses to the 3 Ability questions from their previous application submitted in 2021 remain the same or must provide an updated response. See original Notice page 14-15, #24-26.

Coordination

20. In approximately 250 words or less, applicants must state that the responses to the 2 Coordination questions from their previous application submitted in 2021 remain the same or must provide an updated response. See original Notice page 15, #29-30. New or updated letters of coordination may be attached. Do not attach previously submitted letters of coordination.

Note that VA reserves the right to confirm with local VA medical facility staff or others any information related to an application. If information cannot be confirmed or if discrepancies are identified, VA reserves the right to adjust award decisions, to not select the application, to consider other application(s) in rank order, or to make other remedies as appropriate.

Organizational Leadership

21. Complete the organization leadership table. At minimum, this table must include the positions with the following titles or equivalent titles: Executive Director, Chief Financial Officer, and Project Manager. The table also must include a complete list of the current Board of Directors. For each position include name, title, phone number, and email address. See also Conflicts of Interest section.

Example 3.
Name | Title | Phone number | Email address
Thi Nguyen | Executive Director | 111-222-3333 | email@address.org.
Anisa Osman | Chief Financial Officer | 111-222-3333 | email@address.org.
Marco Aguilar | Project Officer | 111-222-3333 | email@address.org.
Angel Banmeke | Chair, Board of Directors | 111-222-3333 | email@address.org.
Lei Yang | Treasurer, Board of Directors | 111-222-3333 | email@address.org.

External Attachments

Applications that do not consist of all required documents will be considered incomplete.

When submitting an attachment in spreadsheet or table format, applicants are encouraged to convert to portable document format (PDF) prior to submission. Applicants who submit materials in PDF are encouraged to submit a native PDF (i.e., a machine-readable PDF, not an image only or scanned PDF), if possible.

1. SF-424 Application for Federal Assistance (required).

a. The form may be downloaded from the program website at https://www.va.gov/homeless/gpd.asp or at https://www.grants.gov/forms/forms-repository/sf-424-family.

b. The SF-424 must be signed by a person at the applicant organization who is authorized to make legal commitments on behalf of the organization.

c. The signature on the SF-424 must be digital or wet-ink signature. A blank signature field or a “signature” that is manually typed will not be accepted. VA reserves the right to communicate with an applicant, as needed, prior to making threshold decisions.

d. A signature on the SF-424 indicates the applicant agrees to comply with all SF-424B Non-Construction Assurances and terms and conditions of award. Applicants do not need to submit the SF-424B with the application. Instead, the applicant agrees to the assurances by maintaining an active registration in SAM. Refer to the Eligibility section for how to complete the Federal financial assistance representation and certification section in SAM. For awareness, applicants may refer to the GPD website for a list of assurances and for a sample standard terms and conditions of award.

2. Updated NICRA or certification of de minimis indirect cost rate (if needed).

3. Updated letter(s) of coordination (optional).

4. Updated position descriptions (optional).

5. Other (optional).

Required Certifications

By signing and submitting this application for Federal assistance, I agree to the following:

1. The applicant commits to all certifications from the previous special need Notice (dated March 4, 2021).

2. The applicant organization commits to implementing a low barrier approach to providing services to Veterans which generally means service occurs on the same day from the point of identification or referral to the GPD project or within no more than 72 hours.

3. The applicant commits to engaging in the local coordinated entry process and the by-name list, as appropriate.

4. The applicant commits to providing supportive housing beds in private rooms with private bathrooms and to meeting the housing specifications in the NOFO.

5. The applicant commits to having written standard operating procedures on conflicts of interest (see Conflicts of Interest section).

6. No more than 25% of the awarded beds for adult participants will be occupied by people not being served by the GPD grant.

7. The applicant commits to monitoring their actual grant costs compared to requested costs at least quarterly and commits to submitting a revised per diem rate request immediately, when needed, to prevent improper accumulation of unobligated funds.

8. The applicant commits to ensuring staff supported by grant funds are trained annually regarding suicide prevention and commits to having written standard operating procedures on suicide prevention developed in consultation with the local VA medical facility.

9. The applicant commits to ensuring staff supported by grant funds are trained annually regarding equity and inclusion and commits to having written standard operating procedures on nondiscrimination of any individuals based on factors including but not limited to race, color, religion, sex, gender identity, gender expression, sex characteristics, sexual orientation, pregnancy, national origin, disability, age, genetic information, marital status, parental status, or political affiliation.

10. Generally, infrastructure costs are not allowed under GPD transitional housing grants, however, the applicant acknowledges that if the budget includes construction costs, VA prior approval is needed for such costs and the requirements of the Build America Buy America Act (Pub. L. 117-58) apply to the applicant and to all subrecipients and contractors.

11. The applicant organization commits to complying with all applicable requirements for the grant including, but not limited to, 38 CFR part 61, 2 CFR part 200, Federal cost principles, terms and conditions of award, requirements in the NOFO, performance measures, and reporting requirements.

12. The applicant does not have any past due SF-425 Federal Financial Report (FFR) or any other outstanding requirement under any GPD grant.

13. If the applicant organization is the recipient of an historical GPD capital grant (i.e., a capital grant awarded in fiscal year 2020 or before) with an ongoing period of obligation associated with the facility used for special need grant services, then the applicant commits to submitting a strongly competitive application for this special need renewal opportunity. The applicant commits to maintaining bed numbers and occupancy levels. The applicant commits this at least until the expiration of the period during which VA could seek recovery under 38 CFR 61.67. Failure to do so may result in an immediate partial capital grant repayment.

VI. Application Review Information

VA has instituted procedures for assessing the technical merit of applications to provide for an objective review of applications and to assist you in understanding the standards against which your application will be scored. Reviewers will award points based on the evaluation criteria described in 38 CFR 61.40(b) as summarized below.

Criterion | Points (maximum)
1. Need | 150
2. Outreach | 100
3. Project Plan | 300
4. Ability | 200
5. Coordination | 200
6. Completion Confidence | 50
Total | 1,000

VII. Merit Review and Selection Process

A technical merit review panel will carefully evaluate applications against the criteria to determine the merit of applications. Up to 1,000 points may be awarded to an applicant depending on the quality of responses provided. The final scores will serve as the primary basis for selection of applications for funding. The grant review panel will follow 38 CFR part 61 and the Uniform Guidance on application grant review (pursuant to 2 CFR part 200). VA may use information such as historical program documents of past performance, both VA and non-VA, including those from other Federal, state, and local agencies as well as audits by private or public entities in determining scores. The grant review panel will be instructed to consider past performance (e.g., performance metrics, lengths of stay, occupancy rates, use of private rooms with private bathrooms) when scoring applications. The panel results are advisory in nature and not binding on the Grant Program Officer.

Depending on factors such as the quantity and quality of applications received, the availability of funding, and past performance, VA reserves the right to make additional rounds of conditional selections from this NOFO, to reduce the amount of funding or beds awarded, or to take other actions as appropriate. VA reserves the right to negotiate with applicants as needed to accomplish the overall goals and objective of the Notice.

VIII. Risk Assessment

Prior to making an award, and at any time post-award, VA will review information available through various sources, including its own records and any Office of Management and Budget-designated repository of Governmentwide eligibility qualification or financial integrity information, such as www.SAM.gov.

In addition, VA will comply with the requirements of 2 CFR part 180, supplemented by 2 CFR part 801 (Non-procurement Debarment and Suspension). This risk evaluation may incorporate results of the evaluation of the applicant's eligibility (threshold review) or the quality of its application (merit review). If VA determines that an award will be made, specific conditions that correspond to the degree of risk assessed may be applied to the award. VA will conduct a business risk assessment in accordance with 2 CFR 200.206. Applicants or grantees may be asked to submit additional information for VA to assess the adequacy of their financial management of Federal funds.

IX. Award Administration Information

Award Notices

Although subject to change, VA expects to announce grant awards by approximately August 2024. VA reserves the right in any year to make adjustments (e.g., to funding levels) as needed within the intent of the NOFO based on a variety of factors, including the availability of funding.

The applicant's signature on the SF-424, including electronic signature, constitutes a binding offer by the applicant and constitutes agreement to the terms and conditions of award. VA may elect to award funds with or without discussions with the applicant. Applicants may review GPD's general terms and conditions of award at any time on the GPD website at https://www.va.gov/homeless/gpd.asp.

Only a grant agreement with a VA signature is evidence of an award and is an authorizing document allowing costs to be incurred against a grant award. Other notices, letters, or announcements are not authorizing documents. The grant agreement includes the terms and conditions of award and must be signed by VA to be legally binding.

Administrative and National Policy Requirements

VA places great emphasis on responsibility and accountability. VA has procedures in place to monitor grants provided under this grant program. All applicants selected in response to this NOFO must agree to meet applicable inspection standards outlined in the grant agreement.

Conflicts of Interest

Consistent with 2 CFR 200.112, grantees must disclose in writing any potential conflict of interest to the Federal awarding agency or pass-through entity immediately and no less frequently than annually thereafter.

The conflict-of-interest guidance for general procurement standards (2 CFR 200.318) is hereby applied to other grant actions beyond procurement actions. Specifically, grantees must maintain written standards of conduct covering conflicts of interest and governing the actions of its employees or other personnel engaged in activities funded from the GPD grant, including the selection, award, and administration of contracts. No employee, officer, or agent may participate in the selection, award, or administration of a contract supported by a Federal award if he or she has a real or apparent conflict of interest. Such a conflict of interest would arise when the employee, officer, agent, any member of the immediate family, a partner, or an organization which employs or is about to employ any of the parties indicated herein, has a financial or other interest in or a tangible personal benefit from a firm considered for a contract. The officers, employees, and agents of the grantee organization may neither solicit nor accept gratuities, favors, or anything of monetary value from contractors or parties to subcontracts. However, grantees may set standards for situations in which the financial interest is not substantial, or the gift is an unsolicited item of nominal value. The standards of conduct must provide for disciplinary actions to be applied for violations of such standards.

Suicide Prevention

Grantees must ensure staff supported by grant funds are trained annually regarding suicide prevention and how to address situations in which Veterans demonstrate suicidal ideation. Standard operating procedures are to be developed on suicide prevention in consultation with the local VA medical facility. VA training is available at https://www.va.gov/EMPLOYEEEDUCATION/ees_vha_train.asp and https://learn.psycharmor.org/courses/va-save. Suicide Prevention Coordinator locator (for in-person training) is available at https://www.veteranscrisisline.net/find-resources/local-resources.

Equity and Inclusion

Grantees must ensure staff supported by grant funds are trained annually regarding equity and inclusion. Standard operating procedures are to be developed on nondiscrimination of any individuals based on factors including but not limited to race, color, religion, sex, gender identity, gender expression, sex characteristics, sexual orientation, pregnancy, national origin, disability, age, genetic information, marital status, parental status, or political affiliation. VA training is available at https://www.va.gov/EMPLOYEEEDUCATION/ees_vha_train.asp.

Life Safety Code

Grantees must meet the requirements of the current edition of the Life Safety Code of the National Fire Protection Association as it relates to the specific GPD facility(s). Grantees should note that all facilities must be protected throughout by an approved automatic sprinkler system unless a facility is specifically exempt under the Life Safety Code. Applicants should consider this when submitting their grant applications, as no funds will be made available without meeting these requirements.

Inspections

All units must be reinspected by VA no less frequently than annually. Reinspection of occupied units requires advance planning and must be started early to avoid delays. VA reserves the right to withhold payments, reduce beds, terminate a grant, or take other action as appropriate when inspection or reinspection requirements are delayed or not met.

Payments of Grant Funds

Payment Requests

Grantees will receive payments electronically through the U.S. Department of Health and Human Services (HHS) Payment Management System or other payment method identified by VA. Grantees will have the ability to request payments as frequently as they choose or on a reimbursement basis as determined by VA, subject to the following limitations:

• During the first quarter of each annual period, the grantee's cumulative request for funds may not exceed 35% of the annual grant amount without VA written prior approval.

• By the end of the second quarter of each annual period, the grantee's cumulative request for funds may not exceed 60% of the annual grant amount without VA written prior approval.

• By the end of the third quarter of each annual period, the grantee's cumulative request for funds may not exceed 80% of the annual grant amount without VA written prior approval.

• By the end of the fourth quarter of each annual period, the grantee's cumulative request for funds may not exceed 100% of the annual grant amount.

Unobligated Balances

If applicable, grantees with unobligated balances may, with approval from the GPD National Program Office, carry forward such unobligated balances. If applicable, at VA's discretion, award amounts may be subject to reductions. Reductions are permanent and not restorable. Reductions will be calculated based on the amount of the unobligated balance shown in HHS' Payment Management System by the third quarter of each year. VA may calculate reductions with or without input from grantees. Grantees are advised to stay current with reimbursements from the payment system in order to avoid the appearance of inaccurately high unobligated balances.

Immediate Cash Needs

VA will make payments to reimburse amounts expended (38 CFR 61.61(b)). Advance payments are not provided to GPD grantees. Grantees must maintain written procedures to minimize the time elapsing between drawing down funds from the Federal Government and disbursing the funds for grant costs. Also, grantees must maintain financial management systems that meet the standards for fund control and accountability as established in 2 CFR 200.305. Payments drawn must be limited to the minimum amounts needed and be timed in accordance with actual and immediate cash requirements of the grantee in carrying out the purpose of the approved project. The timing and amount of payments must be as close as is administratively feasible to the actual disbursements by the grantee for direct project costs and the proportionate share of any allowable indirect costs. Typically, “immediate” means within 3 business days, as articulated by HHS: https://pms.psc.gov/grant-recipients/funding-request-formula.html.

Per-Item Cost Documentation

• Grantees must support their request for payments with adequate fiscal documentation, including program income and expenses.

• Grantees are advised to keep careful records, including documentation of voluntary leveraged funding from other sources and including cost calculations, such as itemized invoices and cost reasonableness.

• Grantees must submit properly prepared and fully documented vouchers within 30 days after the end of each month. Grantees who are unsure if their submission is properly prepared and fully documented should submit early to allow time for review and resubmission no later than 30 days after the end of each month.

• Per 38 CFR 61.44, at the time of NOFO publication, payment will be either the daily cost of care minus other sources of income or two times the current VA State Home per diem rate for domiciliary care, whichever is less. Grantees should be aware that special need awards are subject to funds availability. Therefore, in the event of a funding shortfall, VA will notify grantees of any applicable revised (lower) maximum rate.

• The per diem payment calculation may be found at 38 CFR 61.44 and current maximum per diem rates are available on the GPD provider website at https://www.va.gov/HOMELESS/GPD_ProviderWebsite.asp.

Reporting and Monitoring

VA will oversee and monitor the services provided to the participants by the grantee. Monitoring will include financial reviews and performance. All grantees are subject to audits conducted by VA or its representative. See 2 CFR 200.337 regarding Access to Records. The grantee will be expected to demonstrate adherence to the grantee's proposed program concept, as described in the application. The reporting requirements and monitoring cadence (bi-weekly, monthly, quarterly, or annually) will be determined in part based on VA's pre-award and post-award risk assessment.

Reporting

• An annual SF-425 FFR is required to be submitted no later than 120 days after the end of each grant year (no later than January 31). Grantees who do not submit on time are subject to being withheld from receiving payments temporarily pending receipt of the report. An FFR form is available on the GPD provider website at https://www.va.gov/HOMELESS/GPD_ProviderWebsite.asp or at www.grants.gov. Instructions for submission also are on the GPD provider website.

• At a minimum, a quarterly review of each GPD grantee's progress toward meeting performance goals is required, as applicable. The targets are set for the initial funding period of this renewal award, starting October 1, 2024. VA may, at its discretion, update these targets any time, for example during an option year, as applicable. Any new targets will be stated in writing by VA. Applicants should be aware that bed utilization rates can impact funding decisions during the award period.

• Annual reporting may involve certifying to VA that certain requirements are complete including, but is not limited to:

○ Updated leadership information, such as contact information for the Board of Directors and Executive Officers, is provided.

○ An updated NICRA or certification of de minimis indirect cost rate is provided (if needed).

○ Organizational records in SAM are complete, including:

The organizational registration is active.

The Federal financial assistance representation and certification section is complete.

No organization or person involved in the grant has an active exclusion.

○ Any conflicts of interest have been disclosed immediately and annually thereafter.

○ Annual training for staff regarding suicide prevention is complete.

○ Annual training for staff regarding equity and inclusion is complete.

○ All required SF-425 FFRs have been submitted to VA for all GPD grants. All future FFRs will be submitted on or before the due date.

○ The organization is up to date on any actions required by an A-133 Single Audit or a VA-specific fiscal review (e.g., a fiscal review of GPD or other VA grants conducted by VA's Office of Business Oversight).

○ The organization does not have an outstanding GPD, VA, or Federal debt.

○ The organization continues to meet the management standards described in 2 CFR part 200 and 38 CFR part 61 and continues to be able to effectively implement statutory, regulatory, and other requirements imposed on grantees (per requirements such as 2 CFR 200.206(b)(2)).

○ An updated per diem rate request reflecting current costs has been submitted (if needed).

• If additional time or funding becomes available, grantees will be notified about how to make a request (notwithstanding 38 CFR 61.61(b) and in compliance with 2 CFR 200.308(c) and § 200.309).

Closeout

• A final SF-425 FFR is due within 120 days after the grant end date. Grantees who do not comply are subject to public reporting on the Federal websites, such as SAM, for material failure to comply with the terms of the award (per 2 CFR 200.344).

• Grantees must promptly refund any balances of unobligated funding that are not authorized to be retained. Any funds paid to the grantee in excess of the amount to which the grantee is finally determined to be entitled under the terms of the Federal award constitute a debt to the Federal Government (2 CFR 200.346).

Monitoring

• Each project receiving special need funding will have a liaison appointed from a nearby VA medical facility to provide oversight and to monitor services provided to Veterans experiencing homelessness.

• It is expected that Veterans will transition to permanent housing as rapidly as clinically appropriate based on individual needs. A typical length of stay, on average, generally is within 6-12 months (or less depending on the population) and not to exceed 24 months. Grantees must work closely with Veterans to support timely transitions to permanent housing.

• Grantees may not make significant changes to a project after a grant is awarded without written prior approval from the GPD National Program Office.

• VA reserves the right to disallow services provided by the grantee if VA determines that they are of unacceptable quality, in which case grant funds may not be used to pay for them.

• Poor performance, such as low bed utilization, may result in bed reductions and may impact future funding or option year(s) decisions.

Record Retention

Grantees must follow Federal guidelines on record retention which require that grantees maintain and provide access to all records pertaining to grant activities for a period of at least 3 years from the date of submission of the final expenditure report. See 2 CFR 200.334-338 for more specific information, including information about the start of the record retention period for awards that are renewed quarterly or annually and when the records must be retained for more than 3 years.

Signing Authority

Denis McDonough, Secretary of Veterans Affairs, approved and signed this document on January 29, 2024, and authorized the undersigned to sign and submit the document to the Office of the Federal Register for publication electronically as an official document of the Department of Veterans Affairs.

Jeffrey M. Martin,
Assistant Director, Office of Regulation Policy & Management, Office of General Counsel, Department of Veterans Affairs.

[FR Doc. 2024-02057 Filed 2-1-24; 8:45 am]

BILLING CODE 8320-01-P